DEPARTMENT OF DEFENSE

Department of the Army, Corps of Engineers

36 CFR Part 327

RIN 0710-AA45

Public Use of Water Resources Development Projects Administered by the Chief of Engineers

AGENCY: U.S. Army Corps of Engineers, DOD.

ACTION: Correcting amendments.

SUMMARY: This document contains corrections to the final regulations (RIN #0710-AA45), which were published in the Federal Register on Friday, February 11, 2000 (65 FR 6896). The regulations relate to the public use of Water Resources Development Projects administered by the Chief of Engineers.

DATES: Effective on May 5, 2000.

FOR FURTHER INFORMATION CONTACT: Mr. Stephen Austin, Outdoor Recreation Planner, 202-761-1796 (not a toll free call).

SUPPLEMENTARY INFORMATION:

Background

The final regulations that are the subject of these corrections superseded § 327.17 on the effective date and affect advertising at Water Resources Development Projects administered by the Chief of Engineers.

Need for Correction

As originally published on February 11, 2000 (effective date of April 1, 2000), the final regulation prohibits the advertising at Water Resources Development Projects without the written permission by the District Commander. Revised language will allow for greater freedom of speech with reasonable restrictions on time and space. This correction is effective on the date of publication in the Federal Register.

List of Subjects in 36 CFR Part 327

Advertising.

PART 327—RULES AND REGULATIONS GOVERNING PUBLIC USE OF WATER RESOURCES DEVELOPMENT PROJECTS ADMINISTERED BY THE CHIEF OF ENGINEERS

Accordingly, 36 CFR part 327 is amended by making the following correcting amendments:

1. The authority citation for Part 327 continues to read as follows:

Authority: 16 U.S.C. 460d; 16 U.S.C. 460l-6a; Sec. 210, Pub L. 90-483, 82 Stat. 746.; 33 U.S.C. 1, 28 Stat. 362.

2. Revise § 327.17 to read as follows:

§ 327.17 Advertisment.

(a) Advertising and the distribution of printed matter is allowed within project land and waters provided that a permit to do so has been issued by the District Commander and provided that this activity is not solely commercial advertising.

(b) An application for such a permit shall set forth the name of the applicant, the name of the organization (if any), the date, time, duration, and location of the proposed advertising or the distribution of printed matter, the number of participants, and any other information required by the permit application form. Permit conditions and procedures are available from the District Commander.

(c) Vessels and vehicles with semipermanent or permanent painted or installed signs are exempt as long as they are used for authorized recreational activities and comply with all other rules and regulations pertaining to vessels and vehicles.

(d) The District Commander shall, without unreasonable delay, issue a permit on proper application unless:

(1) A prior application for a permit for the same time and location has been made that has been or will be granted and the activities authorized by that permit do not reasonably allow multiple occupancy of the particular area; or

(2) It reasonably appears that the advertising or the distribution of printed matter will present a clear and present danger to the public health and safety; or

(3) The number of persons engaged in the advertising or the distribution of printed matter exceeds the number that can reasonably be accommodated in the particular location applied for, considering such things as damage to project resources or facilities, impairment of a protected area's atmosphere of peace and tranquility, interference with program activities, or impairment of public use facilities; or

(4) The location applied for has not been designated as available for the advertising or the distribution of printed matter; or

(5) The activity would constitute a violation of an applicable law or regulation.

(e) If a permit is denied, the applicant shall be so informed in writing, with the reason(s) for the denial set forth.

(f) The District Commander shall designate on a map, which shall be available for inspection in the applicable project office, the locations within the project that are available for the advertising or the distribution of printed matter. Locations may be designated as not available only if the advertising or the distribution of printed matter would:

(1) Cause injury or damage to project resources; or

(2) Unreasonably impair the atmosphere of the peace and tranquility maintained in natural, historic, or commemorative zones; or

(3) Unreasonably interfere with interpretive, visitor service, or other program activities, or with the administrative activities of the Corps of Engineers; or

(4) Substantially impair the operation of public use facilities or services of Corps of Engineers concessioners or contractors.

(5) Present a clear and present danger to the public health and safety.

(g) The permit may contain such conditions as are reasonably consistent with protection and use of the project area for the purposes for which it is established.

(h) No permit shall be issued for a period in excess of 14 consecutive days, provided that permits may be extended for like periods, upon a new application, unless another applicant has requested use of the same location and multiple occupancy of that location is not reasonably possible.

(i) It is prohibited for persons engaged in the activity under this section to obstruct or impede pedestrians or vehicles, harass project visitors with physical contact or persistent demands, misrepresent the purposes or affiliations of those engaged in the advertising or the distribution of printed matter, or misrepresent whether the printed matter is available without cost or donation.

(j) A permit may be revoked under any of those conditions, as listed in paragraph (d) of this section, that constitute grounds for denial of a permit, or for violation of the terms and conditions of the permit. Such a revocation shall be made in writing, with the reason(s) for revocation clearly set forth, except under emergency circumstances, when an immediate verbal revocation or suspension may be made, to be followed by written confirmation within 72 hours.

(k) Violation of the terms and conditions of a permit issued in accordance with this section may result in the suspension or revocation of the permit.

Dated: May 1, 2000.
Charles M. Hess,
Chief, Operations Division, Office of Deputy Commanding General for Civil Works.

[FR Doc. 00-11307 Filed 5-4-00; 8:45 am]

BILLING CODE 3710-92-P